DEPARTMENT OF THE INTERIOR

Bureau of Land Management

[17X.LLWO310000.L13100000.PP0000; OMB Control Number 1004-0137]

Agency Information Collection Activities; Onshore Oil and Gas Operations and Production

AGENCY: Bureau of Land Management, Interior.

ACTION: Notice of information collection; request for comment.

SUMMARY: In accordance with the Paperwork Reduction Act of 1995, we, the Bureau of Land Management (BLM), are proposing renew an information collection with revisions.

DATES: Interested persons are invited to submit comments on or before November 13, 2017.

ADDRESSES: Send your comments on this information collection request (ICR) by mail to the U.S. Department of the Interior, Bureau of Land Management, 1849 C Street NW., Room 2134LM, Washington, DC 20240, Attention: Jean Sonneman; by email to jesonnem@blm.gov. Please reference OMB Control Number 1004-0137 in the subject line of your comments.

FOR FURTHER INFORMATION CONTACT: To request additional information about this ICR, contact Subijoy Dutta by email at sdutta@blm.gov, or by telephone at 202-912-7152.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Various Federal and Indian mineral leasing statutes authorize the BLM to grant and manage onshore oil and gas leases on Federal and Indian (except Osage Tribe) lands. In order to fulfill its responsibilities under these statutes, the BLM needs to perform the information collection (IC) activities set forth in the regulations at 43 CFR parts 3160 and 3170, and in onshore oil and gas orders promulgated in accordance with 43 CFR 3164.1. The BLM requests renewal of this control number. The BLM also requests revision of this control number as the result of the rules and the order that are listed in the following table:

Recent BLM Actions That Affect IC Activities in Control No. 1004-0137
Title of order or rule | Regulatory information No. | Federal Register citation | Control No.
Onshore Oil and Gas Operations; Federal and Indian Oil and Gas Leases; Onshore Oil and Gas Order Number 1, Approval of Operations (Final Order) | RIN 1004-AE37 | 82 FR 2906 (Jan. 10, 2017) | 1004-0213 (expires March 31, 2020).
Onshore Oil and Gas Operations; Federal and Indian Oil and Gas Leases; Site Security (Final Rule) | RIN 1004-AE15 | 81 FR 81356 (Nov. 17, 2016) | 1004-0207 (expires Jan. 31, 2020).
Onshore Oil and Gas Operations; Federal and Indian Oil and Gas Leases; Measurement of Oil (Final Rule) | RIN 1004-AE16 | 81 FR 81462 (Nov. 17, 2016) | 1004-0209 (expires Jan. 31, 2020).
Waste Prevention, Production Subject to Royalties, and Resource Conservation (Final Rule) | RIN 1004-AE14 | 81 FR 83008 (Nov. 18, 2016) | 1004-0211 (expires Jan. 31, 2018).

We are requesting that additions be made to control number 1004-0137 as a result of the rules on approval of operations, site security, and measurement of oil. We are also requesting removal of a historic IC activity (“Gas Flaring”) from control number 1004-0137 because the waste prevention rule removed the regulatory authority for that activity.

In addition to the rules and order listed above, we take note of a recent BLM rule on hydraulic fracturing and a recent federal district court ruling. On June 21, 2016, the U.S. District Court for the District of Wyoming set aside a BLM rule on hydraulic fracturing (80 FR 16128 (March 26, 2015). See Wyoming v. U.S. Department of the Interior, Order on Petition for review of Final Agency Action, Case No. 2:15-CV/043-SWS (D. Wyo.). Previously, the court had issued an order postponing the effective date of the rule. Thus, the rule never became effective, and its pre-approved control number (1004-0203) has never been activated. As a result, we are requesting continuation of the IC activity that would have been discontinued (and would have been replaced with new regulations on hydraulic fracturing) had the final rule become effective. That IC activity (i.e., collection of information on nonroutine fracturing jobs) does not at present appear on the list of IC activities authorized under 43 CFR 3162.3-2 (“Subsequent Well Operations”). However, we intend to conduct a rulemaking in the near future to correct that omission.

Title of Collection: Onshore Oil and Gas Operations and Production (43 CFR parts 3160 and 3170).

OMB Control Number: 1004-0137.

Form Numbers: Form 3160-3, Form 3160-4, Form 3160-5, and Form 3160-6.

Type of Review: Revision of a currently approved collection.

Respondents/Affected Public: Oil and gas operators on public lands and some Indian lands.

Total Estimated Number of Annual Respondents: 7,500.

Total Estimated Number of Annual Responses: 301,663.

Estimated Completion Time per Response: Varies from 45 minutes to 40 hours, depending on activity.

Total Estimated Number of Annual Burden Hours: 1,762,713.

Respondent's Obligation: Required to obtain or retain a benefit.

Frequency of Collection: On occasion, except for the activities listed in the following table:

Type of response | Regulatory cite(s) | Frequency
Request for Approval of a CAA | 43 CFR 3173.15 | Once.
Response to Notice of Insufficient CAA | 43 CFR 3173.16 | Once.
Request for Approval of an FMP for Future Measurement Facilities | 43 CFR 3173.12(d) | Once.
Request for Approval of an FMP for Existing Measurement Facilities | 43 CFR 3173.12(e) | Once.
Measurement Tickets | 43 CFR 3174.12 | Monthly.

Total Estimated Annual Nonhour Burden Cost: $28,830,000.

The following table details the individual components and respective hour burden estimates of this information collection request:

Type of response | Number of responses | Hours per response | Total hours (column B × column C)
A. | B. | C. | D.
Application for Permit to Drill or Re-enter; 43 CFR 3162.3-1, 3164.1, 3172.3-1, and Section III.A. of Onshore Order 1; Form 3160-3 and Related Information | 3,000 | 8 | 24,000
Subsequent Well Operations; 43 CFR 3162.3-2; Form 3160-5; On Occasion | 15,100 | 8 | 120,800
Plan for Well Abandonment; 43 CFR 3162.3-4 | 1,500 | 8 | 12,000
Well Completion or Recompletion Report and Log; 43 CFR 3162.4-1(a), (b), (d), and (e); Form 3160-4 and Related Information | 5,000 | 4 | 20,000
Notification of Production Start or Resumption; 43 CFR 3162.4-1(c); Form 3160-5 | 1,000 | 8 | 8,000
Samples, Tests, and Surveys; 43 CFR 3162.4-2 | 110 | 8 | 880
Disposal of Produced Water; 43 CFR 3162.5-1(b), 3164.1, and Onshore Oil and Gas Order No. 7 | 1,500 | 8 | 12,000
Report of Spills, Discharges, or Other Undesirable Events; 43 CFR 3162.5-1(c) | 215 | 8 | 1,720
Contingency Plan; 43 CFR 3162.5-1(d) | 52 | 32 | 1,664
Horizontal and Directional Drilling; 43 CFR 3162.5-2(b) | 2,100 | 8 | 16,800
Well Markers; 43 CFR 3162.6 | 1,000 | 8 | 8,000
Notice of Staking; 43 CFR 3164.1 and Section III.C. of Onshore Order 1 | 300 | 16 | 4,800
Waiver Request; 43 CFR 3164.1 and Section III.I. of Onshore Order 1 | 150 | 4 | 600
Application for Suspension or Other Relief; 43 CFR 3165.1 | 100 | 16 | 1,600
State Director Review; 43 CFR 3165.3(b) | 55 | 16 | 880
Variance Requests; 43 CFR 3170.6; Form 3160-5 | 100 | 8 | 800
Site Facility Diagrams; 43 CFR 3173.11; Form 3160-5 | 9,156 | 8 | 73.248
Request for Approval of an FMP for Future Measurement Facilities; 43 CFR 3173.12(d); Form 3160-5; One-Time | 1,000 | 8 | 8,000
Request for Approval of an FMP for Existing Measurement Facilities; 43 CFR 3173.12(e); Form 3160-5; One-Time | 166,232 | 8 | 1,329,856
Modifications to an FMP; 43 FR 3173.13(b)(1); Form 3160-5 | 1,000 | 8 | 8,000
Request for Approval of a CAA; 43 CFR 3173.15; Form 3160-5 and Related Information; One-Time | 2,162 | 40 | 86,480
Response to Notice of Insufficient CAA; 43 CFR 3173.16; Form 3160-5 and Related Information | 150 | 40 | 6,000
Request to Modify or Terminate a CAA; 43 CFR 3173.18 and 3173.20; Form 3160-5 and Related Information | 500 | 40 | 20,000
Request for Approval or Termination of Off-Lease Measurement; 43 CFR 3173.23 and 3173.27; Form 3160-5 and Related Information | 166 | 10 | 1,660
Response to Notice of Insufficient Off-Lease Measurement Approval; 43 CFR 3173.25; Form 3160-5 and Related Information | 15 | 40 | 600
Measurement Tickets; 43 CFR 3174.12; Monthly | 90,000 | 0.75 | 67,500
Totals | 301,663 |  | 1,762,713

An agency may not conduct or sponsor and a person is not required to respond to a collection of information unless it displays a currently valid OMB control number.

The authority for this action is the Paperwork Reduction Act of 1995 (44 U.S.C. 3501 et seq).

Jean Sonneman,
Information Collection Clearance Officer, Bureau of Land Management.

[FR Doc. 2017-19284 Filed 9-11-17; 8:45 am]

BILLING CODE 4310-84-P